POSTAL RATE COMMISSION

[Order No. 138; Docket No. A2003-1]

Notice of Appeal of Post Office Closing in Birmingham Green, AL

AGENCY: Postal Rate Commission.

ACTION: Notice and order.

SUMMARY: Several petitioners have filed an appeal of a post office closing in Birmingham Green, Alabama. The Commission has assigned this appeal a docket number, informed the Postal Service and the public of the appeal, and established a procedural schedule. A decision on the merits, including whether the Commission has jurisdiction over this appeal, has not yet been made.

DATES: The Postal Service is to file the administrative record by October 3, 2003.

ADDRESSES: For further information contact Stephen L. Sharfman, General Counsel, Postal Rate Commission, 1333 H Street, NW., Suite 300, Washington, DC 20268-0001.

See SUPPLEMENTARY INFORMATION for other deadlines.

FOR FURTHER INFORMATION CONTACT: Stephen L. Sharfman, General Counsel, 202-789-6820.

SUPPLEMENTARY INFORMATION: In notice and order No. 1384, issued September 24, 2003, the Commission provided notice that certain petitioners had filed an appeal of a post office closing in Birmingham Green, Alabama 35237. It also identified, among other things, the categories of issues that appeared to have been raised in the petition and noted that a 120-day statutory deadline applied to issuance of a decision. A subsequent errata notice (issued September 24, 2003) stated that a deadline had been inadvertently omitted from order no. 1384. Specifically, it indicated that ordering paragraph (a) in order no. 1384 should have specified “October 3, 2003” as the deadine for the Postal Service to file the administrative record. The text of the first notice, captioned Notice and Order Accepting Appeal and Establishing ProceduraI Schedule Under 39 U.S.C. 404(b)(5), appears in part I, as corrected by order no. 1384 (errata notice). Part II includes the procedural schedule published as an appendix to order no. 1384.

I. Text of Order No. 1384

Name of affected post office: Birmingham Green, AL 35237.

Name(s) of petitioner(s): George Prince, Terry Finch and James E. Roberts.

Type of determination: Closing.

Date of filing of appeal papers: September 17, 2003.

Categories of issues apparently raised: 1. Observance of procedure required by law [39 U.S.C. 404(b)(5)(B)]. 2. Effect on the community [39 U.S.C. 404(b)(2)(A)]. 3. Effect on postal services [39 U.S.C. 404(b)(2)(C)].

After the Postal Service files the administrative record and the Commission reviews it, the Commission may find that there are more legal issues than those set forth above. Or, the Commission may find that the Postal Service's determination disposes of one or more of those issues.

The Postal Reorganization Act requires that the Commission issue its decision within 120 days from the date this appeal was filed (39 U.S.C. 404 (b)(5)). The attached procedural schedule has been developed to accommodate this statutory deadline. In the interest of expedition, in light of the 120-day decision schedule, the Commission may request the Postal Service to submit memoranda of law on any appropriate issue. If requested, such memoranda will be due 14 days from the issuance of the request and the Postal Service shall serve a copy of its memoranda on the petitioners. The Postal Service may incorporate by reference in its briefs or motions any arguments presented in memoranda it previously filed in this docket. If necessary, the Commission also may ask petitioners or the Postal Service for more information.

II. Procedural Schedule (Appendix to Order No. 1384)

September 17, 2003: filing of appeal.

September 23, 2003: Commission notice and order of filing of appeal.

October 20, 2003: last day of filing of petitions to intervene [see 39 CFR 3001.111(b)].

October 13, 2003: petitioner's participant statement or initial brief [see 39 CFR 3001.115(a) and (b)].

November 3, 2003: Postal Service's answering brief [see 39 CFR 3001.115(c)].

November 18, 2003: petitioner's reply brief should petitioner choose to file one [see 39 CFR 3001.115(d)].

November 25, 2003: deadline for motions by any party requesting oral argument. The Commission will schedule oral argument only when it is a necessary addition to the written filings [see 39 CFR 3001.116].

January 25, 2004: expiration of the Commission's 120-day decisional schedule [see 39 U.S.C. 404(b)(5)].

III. Ordering Paragraphs

The Commission orders:

(a) The Postal Service shall file the record in this appeal by October 3, 2003.

(b) The secretary of the Postal Rate Commission shall publish this notice and order and procedural schedule in the Federal Register.

By the Commission.
Issued: September 23, 2003.
Dated: September 24, 2003.
Garry J. Sikora,
Acting Secretary.

[FR Doc. 03-24659 Filed 9-29-03; 8:45 am]

BILLING CODE 7710-FW-P